DEPARTMENT OF ENERGY

Federal Energy Regulatory Commission

Combined Notice of Filings #1

Take notice that the Commission received the following electric corporate filings:

Docket Numbers: EC25-89-000.

Applicants: Entergy Louisiana, LLC, Entergy Mississippi, LLC, System Energy Resources, Inc.

Description: Joint Application for Authorization Under Section 203 of the Federal Power Act of Entergy Louisiana, LLC, et al.

Filed Date: 5/19/25.

Accession Number: 20250519-5242.

Comment Date: 5 p.m. ET 6/9/25

Take notice that the Commission received the following exempt wholesale generator filings:

Docket Numbers: EG25-339-000.

Applicants: Hecate Energy Outpost Solar LLC.

Description: Hecate Energy Outpost Solar LLC submits Notice of Self-Certification of Exempt Wholesale Generator Status.

Filed Date: 5/22/25.

Accession Number: 20250522-5026.

Comment Date: 5 p.m. ET 6/12/25.

Take notice that the Commission received the following electric rate filings:

Docket Numbers: ER25-1806-001.

Applicants: Tucson Electric Power Company.

Description: Compliance filing: Supplement to Order 904 Compliance Filing to be effective 6/26/2025.

Filed Date: 5/22/25.

Accession Number: 20250522-5071.

Comment Date: 5 pm ET 6/12/25.

Docket Numbers: ER25-1980-000.

Applicants: Clinton Solar, LLC.

Description: Supplement to April 17, 2025, Clinton Solar LLC tariff filing.

Filed Date: 5/15/25.

Accession Number: 20250515-5196.

Comment Date: 5 p.m. ET 6/5/25.

Docket Numbers: ER25-2278-001.

Applicants: NSTAR Electric Company.

Description: Tariff Amendment: Fe Taft LLC—Related Facilities Agreement v2 to be effective 5/22/2025.

Filed Date: 5/21/25.

Accession Number: 20250521-5151.

Comment Date: 5 p.m. ET 6/11/25.

Docket Numbers: ER25-2281-000.

Applicants: PJM Interconnection, L.L.C.

Description: 205(d) Rate Filing: Amendment to ISA, SA No. 6771; Queue No. AE2-019 to be effective 7/21/2025.

Filed Date: 5/21/25.

Accession Number: 20250521-5143.

Comment Date: 5 p.m. ET 6/11/25.

Docket Numbers: ER25-2282-000.

Applicants: Public Service Company of New Mexico.

Description: 205(d) Rate Filing: Transmission Construction and Interconnection Agreement to be effective 5/7/2025.

Filed Date: 5/21/25.

Accession Number: 20250521-5166.

Comment Date: 5 p.m. ET 6/11/25.

Docket Numbers: ER25-2283-000.

Applicants: Choctaw Fields Solar Project, LLC.

Description: Initial Rate Filing: Market-Based Rate Application to be effective 7/21/2025.

Filed Date: 5/21/25.

Accession Number: 20250521-5168.

Comment Date: 5 p.m. ET 6/11/25.

Docket Numbers: ER25-2284-000.

Applicants: American Electric Power Service Corporation, Ohio Power Company.

Description: 205(d) Rate Filing: Ohio Power Company submits tariff filing per 35.13(a)(2)(iii: AEP submits revised ILDSA—SA No. 1420 ATT 1 to be effective 8/1/2025.

Filed Date: 5/22/25.

Accession Number: 20250522-5013.

Comment Date: 5 p.m. ET 6/12/25.

Docket Numbers: ER25-2285-000.

Applicants: Southwest Power Pool, Inc.

Description: 205(d) Rate Filing: 1875R8 Kansas Electric Power Cooperative, Inc. NITSA and NOA to be effective 5/1/2025.

Filed Date: 5/22/25.

Accession Number: 20250522-5015.

Comment Date: 5 p.m. ET 6/12/25.

Docket Numbers: ER25-2286-000.

Applicants: New York State Electric & Gas Corporation, New York Independent System Operator, Inc.

Description: 205(d) Rate Filing: New York Independent System Operator, Inc. submits tariff filing per 35.13(a)(2)(iii: NYISO-NYSEG Joint 205: Amended LGIA High Bridge Wind (SA2657) (CEII) to be effective 5/8/2025.

Filed Date: 5/22/25.

Accession Number: 20250522-5034.

Comment Date: 5 p.m. ET 6/12/25.

Docket Numbers: ER25-2287-000.

Applicants: Northern States Power Company, a Wisconsin corporation.

Description: 205(d) Rate Filing: 2025-05-22 NSP-RFMU—Project Badger—FSA—0.0.0 to be effective 5/23/2025.

Filed Date: 5/22/25

Accession Number: 20250522-5045.

Comment Date: 5 p.m. ET 6/12/25.

Docket Numbers: ER25-2288-000.

Applicants: Commonwealth Edison Company.

Description: 205(d) Rate Filing: ComEd submits Amended IA SA No. 4212 to be effective 7/22/2025.

Filed Date: 5/22/25.

Accession Number: 20250522-5075.

Comment Date: 5 p.m. ET 6/12/25.

Docket Numbers: ER25-2289-000.

Applicants: Midcontinent Independent System Operator, Inc.

Description: 205(d) Rate Filing: 2025-05-22_SA 4322 MidAmerican-MidAmerican 1st Rev GIA (J1530) to be effective 5/20/2025.

Filed Date: 5/22/25.

Accession Number: 20250522-5088.

Comment Date: 5 p.m. ET 6/12/25.

Docket Numbers: ER25-2290-000.

Applicants: Alabama Power Company, Georgia Power Company, Mississippi Power Company.

Description: 205(d) Rate Filing: Alabama Power Company submits tariff filing per 35.13(a)(2)(iii: PowerSouth NITSA Amendment (Add Rifle Range Delivery Point) to be effective 4/23/2025.

Filed Date: 5/22/25.

Accession Number: 20250522-5093.

Comment Date: 5 p.m. ET 6/12/25.

Docket Numbers: ER25-2291-000.

Applicants: Cherrywood Solar I, LLC.

Description: 205(d) Rate Filing: Application for Market-Based Rate Authorization to be effective 7/22/2025.

Filed Date: 5/22/25.

Accession Number: 20250522-5099.

Comment Date: 5 p.m. ET 6/12/25.

Docket Numbers: ER25-2292-000.

Applicants: Excelsior Energy Center, LLC.

Description: 205(d) Rate Filing: Application for Market-Based Rate Authorization—Excelsior Energy Ctr. to be effective 7/22/2025.

Filed Date: 5/22/25.

Accession Number: 20250522-5101.

Comment Date: 5 p.m. ET 6/12/25.

Docket Numbers: ER25-2293-000.

Applicants: Sebree Solar II, LLC.

Description: 205(d) Rate Filing: Application for Market-Based Rate Authorization—Sebree Solar II to be effective 7/22/2025.

Filed Date: 5/22/25.

Accession Number: 20250522-5104.

Comment Date: 5 p.m. ET 6/12/25.

Docket Numbers: ER25-2294-000.

Applicants: Southwest Power Pool, Inc.

Description: 205(d) Rate Filing: 4193R2 City of Paris NITSA NOA to be effective 8/1/2025.

Filed Date: 5/22/25.

Accession Number: 20250522-5109.

Comment Date: 5 p.m. ET 6/12/25.

Docket Numbers: ER25-2295-000.

Applicants: Tri-State Generation and Transmission Association, Inc.

Description: 205(d) Rate Filing: Amendment to Tri-State WAPA-RMR Balancing Authority Service Agreement to be effective 4/23/2025.

Filed Date: 5/22/25.

Accession Number: 20250522-5110.

Comment Date: 5 p.m. ET 6/12/25.

Docket Numbers: ER25-2296-000.

Applicants: Southwest Power Pool, Inc.

Description: 205(d) Rate Filing: Submission of Revisions to Implement the Expedited Resource Adequacy Study to be effective 7/22/2025.

Filed Date: 5/22/25.

Accession Number: 20250522-5121.

Comment Date: 5 p.m. ET 6/12/25.

Docket Numbers: ER25-2297-000.

Applicants: Southwest Power Pool, Inc.

Description: 205(d) Rate Filing: SPP-MISO JOA Revisions to Include SPP ERAS in JTIQ Process to be effective 7/22/2025.

Filed Date: 5/22/25.

Accession Number: 20250522-5137.

Comment Date: 5 p.m. ET 6/12/25.

Docket Numbers: ER25-2298-000.

Applicants: Midcontinent Independent System Operator, Inc.

Description: 205(d) Rate Filing: 2025-05-22_MISO-SPP JOA re: SPP ERAS to be effective 7/22/2025.

Filed Date: 5/22/25.

Accession Number: 20250522-5142.

Comment Date: 5 p.m. ET 6/12/25.

Docket Numbers: TX25-5-000.

Applicants: Seattle City Light.

Description: Application for Order Directing Transmission Service and Interconnection of Facilities of Seattle City Light under TX25-5.

Filed Date: 5/20/25.

Accession Number: 20250520-5190.

Comment Date: 5 p.m. ET 6/10/25.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, community organizations, Tribal members and others, access publicly available information and navigate Commission processes. For public inquiries and assistance with making filings such as interventions, comments, or requests for rehearing, the public is encouraged to contact OPP at (202) 502-6595 or OPP@ferc.gov.

Dated: May 22, 2025.
Debbie-Anne A. Reese,
Secretary.

[FR Doc. 2025-09673 Filed 5-28-25; 8:45 am]

BILLING CODE 6717-01-P